DEPARTMENT OF DEFENSE

Department of the Air Force

[AFD-1703]

Notice of Intent To Grant a Partially Exclusive Patent License

AGENCY: Department of the Air Force, Department of Defense.

ACTION: Notice of Intent

SUMMARY: Pursuant to the Bayh-Dole Act and implementing regulations, the Department of the Air Force hereby gives notice of its intent to grant a partially exclusive (exclusive with respect to the field of optical-electronic devices; biological detection, diagnostics and treatment; and solar energy conversion) patent license agreement to UES, Inc., a corporation of the State of Ohio, having a place of business at 4401 Dayton-Xenia Road, Dayton, OH 45432-1894.

DATES: Written objections must be filed no later than fifteen (15) calendar days after the date of publication of this Notice.

ADDRESSES: Submit written objections to the Air Force Materiel Command Law Office, Timothy Barlow, AFMCLO/JAZ, 2240 B Street, Room 260, Wright-Patterson AFB, OH 45433-7109; Phone: (937) 904-5760; Facsimile: (937) 255-3733; or Email: afmclo.jaz.tech@us.af.mil. Include Docket No. AFD-1703 in the subject line of the message.

FOR FURTHER INFORMATION CONTACT: Air Force Materiel Command Law Office, AFMCLO/JAZ, 2240 B Street, Rm 260, Wright-Patterson AFB, OH 45433-7109; Facsimile: (937) 255-3733; Email: afmclo.jaz.tech@us.af.mil.

SUPPLEMENTARY INFORMATION: The Department of the Air Force intends to grant the partially exclusive patent license agreement for the invention described in:

-U.S. Patent Application Serial No. 15/954,646, filed 17 April 2018, and U.S. Patent Application Serial No. 16/220,773, filed 14 December 2018.

The Department of the Air Force may grant the prospective license unless a timely objection is received that sufficiently shows the grant of the license would be inconsistent with the Bayh- Dole Act or implementing regulations. A competing application for a patent license agreement, completed in compliance with 37 CFR 404.8 and received by the Air Force within the period for timely objections, will be treated as an objection and may be considered as an alternative to the proposed license.

Authority: 35 U.S.C. 209; 37 CFR 404.

Carlinda N. Lotson,
Acting Air Force Federal Register Liaison Officer, TSgt, USAF.

[FR Doc. 2019-05859 Filed 3-26-19; 8:45 am]

BILLING CODE 5001-10-P